LEGAL SERVICES CORPORATION

Sunshine Act Meeting of the Board of Directors

Time and Date: The Board of Directors of the Legal Services Corporation will meet telephonically on May 19, 2010. The meeting will begin at 2 p.m. (ET), and continue until conclusion of the Board's agenda.

Location: Legal Services Corporation, 3333 K Street, NW., Washington, DC 20007, 3rd Floor Conference Center.

Public Observation: For all meetings and portions thereof open to public observation, members of the public that wish to listen to the proceedings may do so by following the telephone call-in directions given below. You are asked to keep your telephone muted to eliminate background noises. From time to time the Chairman may solicit comments from the public.

Call-In Directions for Open Session(S): • Call toll-free number: 1-(866) 451-4981;

• When prompted, enter the following numeric pass code: 5907707348;

• When connected to the call, please “MUTE” your telephone immediately.

Status of Meeting: Open, except as noted below.

• A portion of the meeting of the Board of Directors may be closed to the public pursuant to a vote of the Board of Directors to receive a staff briefing¹ regarding the proposed response to a draft report by the Government Accountability Office (“GAO”) on certain aspects of the Corporation's operations.

¹ Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

A verbatim written transcript will be made of the closed session of the Board meeting. However, the transcript of any portions of the closed session falling within the relevant provisions of the Government in the Sunshine Act, 5 U.S.C. 552b(c)(9)(B), and the corresponding provisions of the Legal Services Corporation's implementing regulation, 45 CFR 1622.5(g), will not be available for public inspection. A copy of the General Counsel's Certification that in his opinion the closing is authorized by law will be available upon request.

Matters To Be Considered

Open Session

1. Approval of the agenda.

2. Consider and act on Board of Directors' response to the Inspector General's Semiannual Report to Congress for the period of October 1, 2009 through March 31, 2010.

3. Public comment.

4. Consider and act on whether to authorize an executive session of the Board to address items listed below under Closed Session.

Closed Session

5. Staff briefing on proposed response to the Government Accountability Office (“GAO”) draft report entitled “Legal Services Corporation: Improvements Needed in Controls Over Grant Awards and Grant Program Effectiveness (GAO-10-540).”

6. Consider and act on other business.

7. Consider and act on motion to adjourn meeting.

Contact Person for Information: Kathleen Connors, Executive Assistant to the President, at (202) 295-1500. Questions may be sent by electronic mail to FR_NOTICE_QUESTIONS@lsc.gov.

Special Needs: Upon request, meeting notices will be made available in alternate formats to accommodate visual and hearing impairments. Individuals who have a disability and need an accommodation to attend the meeting may notify Kathleen Connors at (202) 295-1500 or FR_NOTICE_QUESTIONS@lsc.gov.

Dated: May 12, 2010.
Patricia D. Batie,
Corporate Secretary.

[FR Doc. 2010-11755 Filed 5-12-10; 4:15 pm]

BILLING CODE 7050-01-P